DEPARTMENT OF DEFENSE

Office of the Secretary

[Docket ID DoD-2008-OS-0134]

Privacy Act of 1974; System of Records

AGENCY: Defense Logistics Agency, DoD.

ACTION: Notice to amend a system of records.

SUMMARY: The Defense Logistics Agency is amending a system of records notice in its existing inventory of record systems subject to the Privacy Act of 1974, (5 U.S.C. 552a), as amended.

DATES: This proposed action will be effective without further notice on December 12, 2008 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: November 3, 2008.
Morgan E. Frazier,
Alternate OSD Federal Register Liaison Officer, Department of Defense.

S259.05

System name:

Legal Assistance (August 25, 2006, 71 FR 50396).

Changes:

System identifier:

Delete entry and replace with “S170.06.”

* * * * *

System location:

Delete entry and replace with “Office of the General Counsel, Defense Supply Center Columbus, ATTN: DSCC-G, 3990 East Broad Street, Columbus, OH 43213-1199.”

* * * * *

Retention and disposal:

Delete entry and replace with “Correspondence, memoranda, attorney opinions, and similar records accumulated as a result of providing legal advice and assistance to military personnel and their dependents are destroyed 1 year after completion of case except legal instruments withdrawn for use as precedents may be held until no longer needed for reference.”

System manager(s) and address:

Delete entry and replace with “General Counsel, Defense Supply Center Columbus, ATTN: DSCC-G, 3990 East Broad Street, Columbus, OH 43213-1199.”

Notification procedure:

Delete entry and replace with “Individuals seeking to determine whether information about themselves is contained in this system of records should address written inquiries to the Privacy Act Office, Headquarters Defense Logistics Agency, ATTN: DGA, 8725 John J. Kingman Road, Suite 1644, Fort Belvoir, VA 22060-6221.

Individual must provide full name and date assistance was requested.”

Record access procedures:

Delete entry and replace with “Individuals seeking access to information about themselves contained in this system of records should address written inquiries to the Privacy Act Office, Headquarters Defense Logistics Agency, ATTN: DGA, 8725 John J. Kingman Road, Suite 1644, Fort Belvoir, VA 22060-6221.

Individual must provide full name and date assistance was requested.”

Contesting record procedures:

Delete entry and replace with “The DLA rules for accessing records, for contesting contents, and appealing initial agency determinations are contained in 32 CFR part 323, or may be obtained from the Privacy Act Office, Headquarters Defense Logistics Agency, ATTN: DGA, 8725 John J. Kingman Road, Suite 1644, Fort Belvoir, VA 22060-6221.”

* * * * *

S170.06

System name:

Legal Assistance.

System location:

Office of the General Counsel, Defense Supply Center Columbus, ATTN: DSCC-G, 3990 East Broad Street, Columbus, OH 43213-1199.

Categories of individuals covered by the system:

Authorized military personnel and their dependents who have requested legal advice and/or assistance.

Categories of records in the system:

Documents prepared in response to requests for legal advice and assistance, and the background information supplied by the requester to prepare the documents.

Authority for maintenance of the system:

5 U.S.C. 301, Departmental Regulations.

Purpose(s):

Documents are used to provide copies for individuals requesting the assistance, their representative or where otherwise appropriate, members of their immediate families. Documents may also be used as models or examples for preparing future documents.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

The DOD “Blanket Routine Uses” apply to this system of records.

Policies and practices for storing, retrieving, accessing, retaining, and disposing of records in the system:

Storage:

Records may be maintained on paper and on electronic storage media.

Retrievability:

Records are retrieved by individual's name.

Safeguards:

Attorney operating folders are kept in a file cabinet or other storage devices accessible only to authorized personnel of the DSCC Office of Counsel or as determined by the DSCC Counsel.

Retention and disposal:

Correspondence, memoranda, attorney opinions, and similar records accumulated as a result of providing legal advice and assistance to military personnel and their dependents are destroyed 1 year after completion of case except legal instruments withdrawn for use as precedents may be held until no longer needed for reference.

System manager(s) and address:

General Counsel, Defense Supply Center Columbus, ATTN: DSCC-G, 3990 East Broad Street, Columbus, OH 43213-1199.

Notification procedure:

Individuals seeking to determine whether information about themselves is contained in this system of records should address written inquiries to the Privacy Act Office, Headquarters Defense Logistics Agency, ATTN: DGA, 8725 John J. Kingman Road, Suite 1644, Fort Belvoir, VA 22060-6221.

Individual must provide full name and date assistance was requested.

Record access procedures:

Individuals seeking access to information about them contained in this system of records should address written inquiries to the Privacy Act Office, Headquarters Defense Logistics Agency, ATTN: DGA, 8725 John J. Kingman Road, Suite 1644, Fort Belvoir, VA 22060-6221.

Individual must provide full name and date assistance was requested.

Contesting record procedures:

The DLA rules for accessing records, for contesting contents, and appealing initial agency determinations are contained in 32 CFR part 323, or may be obtained from the Privacy Act Office, Headquarters Defense Logistics Agency, ATTN: DGA, 8725 John J. Kingman Road, Suite 1644, Fort Belvoir, VA 22060-6221.

Record source categories:

Individual requesting legal advice and/or assistance.

Exemptions claimed for the system:

None.

[FR Doc. E8-26766 Filed 11-10-08; 8:45 am]

BILLING CODE 5001-06-P